Title 3—

The President

Proclamation 7781 of May 7, 2004

Asian/Pacific American Heritage Month, 2004

By the President of the United States of America

A Proclamation

During Asian/Pacific American Heritage Month, we honor the accomplishments of Asian/Pacific Americans and the many ways they have enriched our society and shaped the character of our Nation through their diverse languages, cultures, and religious beliefs.

Today, Asian/Pacific Americans are leaders in public service, business, government, science, law, education, athletics, the arts, and many other areas. Their love of family, community, and hard work has helped to uphold our Nation for many generations. Asian/Pacific American entrepreneurs are helping to strengthen our economy and our communities through their hard work and ingenuity, and they inspire a new generation of American innovation through their example.

Throughout our history, Asian/Pacific Americans have been patriots, answering the call to defend our Nation and to protect the blessings of liberty and democracy. Today, in the war on terror, Asian/Pacific Americans serve proudly as they carry on our Nation's noble tradition of advancing the cause of freedom around the world. We are grateful for the sacrifice of our men and women in uniform and those who love and support them as we fight to protect our homeland and make the world safe for democracy.

Today, the more than 13 million Americans of Asian or Pacific Island heritage contribute to the vitality, success, and prosperity of our Nation. To honor the achievements and contributions of Asian/Pacific Americans, the Congress by Public Law 102-450 as amended, has designated the month of May each year as “Asian/Pacific American Heritage Month.”

NOW, THEREFORE, I, GEORGE W. BUSH, President of the United States of America, do hereby proclaim May 2004 as Asian/Pacific American Heritage Month. I call upon the people of the United States to reflect upon the history of Asian/Pacific Americans and their many contributions to our Nation.

IN WITNESS WHEREOF, I have hereunto set my hand this seventh day of May, in the year of our Lord two thousand four, and of the Independence of the United States of America the two hundred and twenty-eighth.

B

[FR Doc. 04-10910

Filed 5-11-04; 8:45 am]

Billing code 3195-01-P